DEPARTMENT OF HOMELAND SECURITY

Federal Emergency Management Agency

[Docket ID FEMA-2021-0002; Internal Agency Docket No. FEMA-B-2143]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Eagle | Unincorporated areas of Eagle County (20-08-0688P). | Mr. Jeff Schroll, Eagle County Manager, P.O. Box 850, Eagle, CO 81631. | Eagle County Engineering Department, 500 Broadway Street, Eagle, CO 81631. | https://msc.fema.gov/portal/advanceSearch. | Sep. 17, 2021 | 080051
Teller | City of Cripple Creek (20-08-0744P). | The Honorable Milford Ashworth, Mayor, City of Cripple Creek, P.O. Box 430, Cripple Creek, CO 80813. | City Hall, 337 East Bennett Avenue, Cripple Creek, CO 80813. | https://msc.fema.gov/portal/advanceSearch. | Sep. 23, 2021 | 080174
Teller | Unincorporated areas of Teller County (20-08-0744P). | The Honorable Bob Campbell, Chairman, Teller County Board of County Commissioners, P.O. Box 959, Cripple Creek, CO 80813. | Teller County Planning Department, 800 Research Drive, Woodland Park, CO 80863. | https://msc.fema.gov/portal/advanceSearch. | Sep. 23, 2021 | 080173
Florida:
Alachua | Unincorporated areas of Alachua County (20-04-4498P). | Ms. Michele L. Lieberman, Alachua County Manager, 12 Southeast 1st Street, Gainesville, FL 32601. | Alachua County Public Works Department, 5620 Northwest 120th Lane, Gainesville, FL 32653. | https://msc.fema.gov/portal/advanceSearch. | Sep. 17, 2021 | 120001
Broward | City of Oakland Park (21-04-0055P). | The Honorable Jane F. Bolin, Mayor, City of Oakland Park, 3650 Northeast 12th Avenue, Oakland Park, FL 33334. | City Hall, 3650 Northeast 12th Avenue, Oakland Park, FL 33334. | https://msc.fema.gov/portal/advanceSearch. | Sep. 27, 2021 | 120050
Broward | City of Tamarac (21-04-0055P). | The Honorable Michelle J. Gomez, Mayor, City of Tamarac, 7525 Northwest 88th Avenue, Tamarac, FL 33321. | City Hall, 7525 Northwest 88th Avenue, Tamarac, FL 33321. | https://msc.fema.gov/portal/advanceSearch. | Sep. 27, 2021 | 120058
Charlotte | Unincorporated areas of Charlotte County (20-04-5508P). | The Honorable Bill Truex, Chairman, Charlotte County Board of Commissioners, 18500 Murdock Circle, Suite 536, Port Charlotte, FL 33948. | Charlotte County Community Development Department, 18500 Murdock Circle, Port Charlotte, FL 33948. | https://msc.fema.gov/portal/advanceSearch. | Oct. 6, 2021 | 120061
Hillsborough | City of Plant City, (21-04-0113P). | The Honorable Rick Lott, Mayor, City of Plant City, 302 West Reynolds Street, Plant City, FL 33563. | City Hall, 302 West Reynolds Street, Plant City, FL 33563. | https://msc.fema.gov/portal/advanceSearch. | Sep. 13, 2021 | 120113
Monroe | Unincorporated areas of Monroe County (21-04-1248P). | The Honorable Michelle Coldiron, Mayor, Monroe County Board of Commissioners, 25 Ships Way, Big Pine Key, FL 33043. | Monroe County Building Department, 2798 Overseas Highway, Suite 300, Marathon, FL 33050. | https://msc.fema.gov/portal/advanceSearch. | Sep. 13, 2021 | 125129
Palm Beach | Village of Royal Palm Beach, (20-04-0685P). | The Honorable Fred Pinto, Mayor, Village of Royal Palm Beach, 1050 Royal Palm Beach Boulevard, Royal Palm Beach, FL 33411. | Village Hall, 1050 Royal Palm Beach Boulevard, Royal Palm Beach, FL 33411. | https://msc.fema.gov/portal/advanceSearch. | Sep. 17, 2021 | 120225
Polk | Unincorporated areas of Polk County (20-04-6127P). | Mr. Bill Beasley, Polk County Manager, 330 West Church Street, Bartow, FL 33831. | Polk County Floodplain Management Department, 330 West Church Street, Bartow, FL 33831. | https://msc.fema.gov/portal/advanceSearch. | Sep. 30, 2021 | 120261
Georgia:
Cobb | City of Smyrna (20-04-5692P). | The Honorable Derek Norton, Mayor, City of Smyrna, 2800 King Street, Smyrna, GA 30080. | Public Works Department, 2190 Atlanta Road, Smyrna, GA 30080. | https://msc.fema.gov/portal/advanceSearch. | Sep. 7, 2021 | 130057
Cobb | Unincorporated areas of Cobb County (20-04-5692P). | The Honorable Lisa Cupid, Chair, Cobb County Board of Commissioners, 100 Cherokee Street, Suite 300, Marietta, GA 30090. | Cobb County Stormwater Management Division, 660 South Cobb Drive, Marietta, GA 30060. | https://msc.fema.gov/portal/advanceSearch. | Sep. 7, 2021 | 130052
Fulton | City of Atlanta, (20-04-5692P). | The Honorable Keisha Lance Bottoms, Mayor, City of Atlanta, 55 Trinity Avenue, Suite 2500, Atlanta, GA 30303. | City Hall, 72 Marietta Street Northwest, Atlanta, GA 30303. | https://msc.fema.gov/portal/advanceSearch. | Sep. 7, 2021 | 135157
North Dakota: Burleigh | City of Bismarck (21-08-0028P). | The Honorable Steven Bakken, Mayor, City of Bismarck, P.O. Box 5503, Bismarck, ND 58506. | Community Development Department, 221 North 5th Street, Bismarck, ND 58501. | https://msc.fema.gov/portal/advanceSearch. | Sep. 23, 2021 | 380149
Texas:
Denton | Town of Northlake (20-06-3532P). | The Honorable David Rettig, Mayor, Town of Northlake, 1500 Commons Circle, Suite 300, Northlake, TX 76226. | Public Works Department, 1400 F.M. 407, Northlake, TX 76247. | https://msc.fema.gov/portal/advanceSearch. | Oct. 4, 2021 | 480782
Travis | City of Pflugerville (21-06-0412P). | The Honorable Victor Gonzales, Mayor, City of Pflugerville, P.O. Box 589, Pflugerville, TX 78691. | Planning and Development Services Center, 201-B East Pecan Street, Pflugerville, TX 78691. | https://msc.fema.gov/portal/advanceSearch. | Sep. 27, 2021 | 481028
Travis | Unincorporated areas of Travis County (21-06-0412P). | The Honorable Andy Brown, Travis County Judge, P.O. Box 1748, Austin, TX 78767. | Travis County Transportation and Natural Resources Department, 700 Lavaca Street, 5th Floor, Austin, TX 78701. | https://msc.fema.gov/portal/advanceSearch. | Sep. 16, 2021 | 481026
Virginia: King and Queen | Unincorporated areas of King and Queen County (21-03-0727P). | Mr. Thomas J. Swartzwelder, Administrator, King and Queen County, P.O. Box 177, King and Queen C.H., VA 23085. | King and Queen County Administrator's Office, 242 Allens Circle, Suite L, King and Queen C.H., VA 23085. | https://msc.fema.gov/portal/advanceSearch. | Sep. 23, 2021 | 510082

[FR Doc. 2021-13862 Filed 6-28-21; 8:45 am]

BILLING CODE 9110-12-P